ENVIRONMENTAL PROTECTION AGENCY

[FRL-7219-7]

Agency Information Collection Activities: Submission for OMB Review; Comment Request; Evaluations of Innovative Pilot Project Innovations

AGENCY: Environmental Protection Agency (EPA).

ACTION: Notice.

SUMMARY: In compliance with the Paperwork Reduction Act (44 U.S.C. 3501 et seq.), this document announces that the following Information Collection Request (ICR) has been forwarded to the Office of Management and Budget (OMB): Evaluations of Innovative Pilot Project Innovations, EPA ICR 1993.01. The ICR describes the nature of the information collection and its expected burden and cost; where appropriate, it includes the actual data collection instrument.

DATES: Comments must be submitted on or before June 28, 2002.

ADDRESSES: Send comments, referencing EPA ICR No. 1993.01, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by E-mail at auby.susan@epa.gov, or download off the Internet at http://www.epa.gov/icr and refer to EPA ICR No. 1993.01. For technical questions about the ICR contact Eric Marsh in EPA's Office of Environmental Policy Innovation at (202) 260-2782.

SUPPLEMENTARY INFORMATION: Title: Evaluations of Innovative Pilot Project Innovations, EPA ICR No. 1993.01. This is a new collection.

Abstract: In 1995 the U.S. Environmental Protection Agency began to solicit innovative pilot projects in response to a challenge to transform the environmental regulatory system to better meet the needs of a rapidly changing society while maintaining the nation's commitment to protect human health and safeguard the natural environment. Through site-specific agreements with project sponsors, EPA is gathering data and project experience that will help the Agency redesign current approaches to public health and environmental protection. Through these projects, sponsors—private facilities, multiple facilities, industry sectors, Federal facilities, communities, universities, Tribes and States—can implement innovative strategies that produce superior environmental performance, provide flexibility, cost savings, paperwork reduction or other benefits to sponsors, and promote greater accountability to stakeholders.

In September 2002, EPA would like to begin in-depth evaluations of different innovative pilot project innovations in order to determine which, if any, innovations have the potential for wider application. These innovations center around regulations, permitting, environmental information management, compliance and enforcement, environmental stewardship, and stakeholder involvement. From the identified innovations, EPA plans to evaluate a select set the Agency believes has potential for broader application. As more innovative pilot projects move into implementation and more innovations emerge, EPA plans to continue this same process of selecting a set of new innovations and then evaluating them.

The evaluation of innovative pilot project innovations will serve a variety of purposes. First, by learning which innovations are working and which are not, EPA management can better discern which innovations can be applied on a wider-scale, which need further testing and refining before wide-scale adoption, and which should eventually be retired. Second, the evaluations will provide information to state, tribal, and local agencies attempting their own unique efforts to transform their regulatory systems. Third, they will inform industry representatives and the public, allowing them to play an active, creative role in finding solutions to environmental problems. Finally, the evaluations will help set the course for future EPA innovative environmental programs. As a start, EPA intends to begin evaluating permit innovations from projects that have been in implementation for at least a year.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on November 22, 2000, (65 FR 70345); one comment was received.

Burden Statement: The annual public reporting and recordkeeping burden for this collection of information is estimated to average three hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: State, Local and Tribal Government, Individuals, Business or other for-profit organizations.

Estimated Number of Respondents: 600.

Frequency of Response: Once.

Estimated Total Annual Hour Burden: 1,800.

Estimated Total Annualized Capital, O&M Cost Burden: $0.

Send comments on the Agency's need for this information, the accuracy of the provided burden estimates, and any suggested methods for minimizing respondent burden, including through the use of automated collection techniques to the addresses listed above. Please refer to EPA ICR No. 1993.01 in any correspondence.

Dated: May 22, 2002.
Oscar Morales,
Director, Collection Strategies Division.

[FR Doc. 02-13347 Filed 5-28-02; 8:45 am]

BILLING CODE 6560-50-P